DEPARTMENT OF VETERANS AFFAIRS

Privacy Act of 1974; System of Records

AGENCY: Veterans Health Administration, Department of Veterans Affairs.

ACTION: Notice of a new system of records.

SUMMARY: Pursuant to the Privacy Act of 1974, notice is hereby given that the Department of Veterans Affairs (VA) is establishing a new system of records titled, Federal Immersive Learning Management Records-VA (217VA10). This system will allow for real-time collaboration, creation, and dissemination of simulation training content, scenarios, and simulation best practices, which will enable the delivery of high value care through better adoption of clinical simulation and all modalities training capabilities in the Veterans Health Administration (VHA).

DATES: Comments on this new system of records must be received no later than 30 days after the date of publication in the Federal Register. If no public comment is received during the period allowed for comment or unless otherwise published in the Federal Register by VA, the new system of records will become effective a minimum of 30 days after date of publication in the Federal Register. If VA receives public comments, VA shall review the comments to determine whether any changes to the notice are necessary.

ADDRESSES: Comments may be submitted through www.Regulations.gov or mailed to VA Privacy Service, 810 Vermont Avenue NW, (005X6F), Washington, DC 20420. Comments should indicate that they are submitted in response to the Federal Immersive Learning Management Records-VA (217VA10). Comments received will be available at www.Regulations.gov for public viewing, inspection. or copies.

FOR FURTHER INFORMATION CONTACT: Stephania Griffin, VHA Chief Privacy Officer, Department of Veterans Affairs, 810 Vermont Avenue NW, (10DH03A), Washington, DC 20420; Stephania.Griffin@va.gov; or 704-245-2492 (Note: This is not a toll-free number).

SUPPLEMENTARY INFORMATION:

I. Description of Proposed Systems of Records

The Federal Immersive Learning Management System (Fed ILMS) facilitates real-time collaboration, creation, and dissemination of simulation training content, enabling users to acquire and refine essential skills. It supports diverse learning modalities, interactive simulations, Virtual Reality/Augmented Reality/Extended Reality (VR/AR/XR) applications, a set of technical standards for the e-learning software Shareable Content Object Reference Model, experience application programming interface courses, live/on-demand events, 2 and 3 dimensional booths, and interactive meetings with comprehensive tracking of user progress and outcomes.

II. Proposed Routine Use Disclosures of Data in the System

VA is proposing the following routine use disclosures of information maintained in the system:

1. Congress: To a Member of Congress or staff acting upon the Member's behalf when the Member or staff requests the information on behalf of, and at the request of, the individual who is the subject of the record.

2. Data Breach Response and Remediation, for VA: To appropriate agencies, entities, and persons when (a) VA suspects or has confirmed that there has been a breach of the system of records; (b) VA has determined that as a result of the suspected or confirmed breach there is a risk of harm to individuals, VA (including its information systems, programs, and operations), the Federal Government, or national security; and (c) the disclosure made to such agencies, entities, and persons is reasonably necessary to assist in connection with VA's efforts to respond to the suspected or confirmed breach or to prevent, minimize, or remedy such harm.

3. Data Breach Response and Remediation for Another Federal Agency: To another Federal agency or Federal entity, when VA determines that information from this system of records is reasonably necessary to assist the recipient agency or entity in (a) responding to a suspected or confirmed breach or (b) preventing, minimizing, or remedying the risk of harm to individuals, the recipient agency, or entity (including its information systems, programs, and operations), the Federal Government, or national security, resulting from a suspected or confirmed breach.

4. Law Enforcement Authorities, for Reporting Violations of Law: To a Federal, state, local, territorial, tribal, or foreign law enforcement authority or other appropriate entity charged with the responsibility of investigating or prosecuting a violation or potential violation of law, whether civil, criminal, or regulatory, or charged with enforcing or implementing such law, provided that the disclosure is limited to information that, either alone or in conjunction with other information, indicates such a violation or potential violation. A disclosure of information about Veterans and their dependents from VA claims files under this routine use must also comply with the provisions of 38 U.S.C. 5701(f).

5. Department of Justice (DOJ), Litigation, Administrative Proceeding: To DOJ, or in a proceeding before a court, adjudicative body, or other administrative body before which VA is authorized to appear, when any of the following is a party to such proceedings or has an interest in such proceedings, and VA determines that use of such records is relevant and necessary to the proceedings: (a) VA or any component thereof; (b) any VA employee in his or her official capacity; (c) any VA employee in his or her official capacity where DOJ has agreed to represent the employee; or (d) the United States, where VA determines that litigation is likely to affect the agency or any of its components.

6. National Archives and Records Administration (NARA): To NARA in records management inspections conducted under 44 U.S.C. 2904 and § 2906, or other functions authorized by laws and policies governing NARA operations and VA records management responsibilities.

7. Equal Employment Opportunity Commission (EEOC): To EEOC in connection with investigations of alleged or possible discriminatory practices, the examination of Federal affirmative employment programs, or other functions of the Commission as authorized by law.

8. Federal Labor Relations Authority (FLRA): To FLRA in connection with the investigation and resolution of allegations of unfair labor practices, the resolution of exceptions to arbitration awards when a question of material fact is raised, matters before the Federal Service Impasses Panel, and the investigation of representation petitions and the conduct or supervision of representation elections.

9. Merit Systems Protection Board (MSPB): To MSPB in connection with appeals, special studies of the civil service and other merit systems, review of rules and regulations, investigation of alleged or possible prohibited personnel practices, and such other functions promulgated in 5 U.S.C. 1205 and 1206, or as authorized by law.

10. Contractors: To contractors, grantees, experts, consultants, students, and others performing or working on a contract, service, grant, cooperative agreement, or other assignment for VA, when reasonably necessary to accomplish an agency function related to the records.

11. Other Federal Agencies: To other Federal agencies for the purpose of tracking training completion by their employees in the Federal Immersive Learning Management System.

12. Academic Universities: To academic universities for the purpose of tracking training completion in Fed ILMS for their students.

Signing Authority

The Senior Agency Official for Privacy, or designee, approved this document and authorized the undersigned to sign and submit the document to the Office of the Federal Register for publication electronically as an official document of the Department of Veterans Affairs. Eddie Pool, Deputy Chief Information Officer, Connectivity and Collaboration Services, Performing the Delegable Duties of the Assistant Secretary for Information and Technology and Chief Information Officer, approved this document on June 25, 2025 for publication.

Dated: August 13, 2025.
Saurav Devkota,
Government Information Specialist, VA Privacy Service, Office of Compliance, Risk and Remediation, Office of Information and Technology, Department of Veterans Affairs.

SYSTEM NAME AND NUMBER:

Federal Immersive Learning Management Records-VA” (217VA10).

SECURITY CLASSIFICATION:

Unclassified.

SYSTEM LOCATION:

These records are the responsibility of the Simulation Learning, Evaluation, Assessment, and Research National SimVET Center, 13800 Veterans Way, Building 13, Orlando, FL 32827. Records are maintained in the Microsoft Government Cloud at Creative Veteran Productions in Maitland, Florida.

SYSTEM MANAGER(S):

Associate Director for Training, Office of Healthcare Innovative and Learning, VHASLICESUPPORT@va.gov, 13800 Veterans Way, Building 13, Orlando, Florida 32827. Telephone number 407-631-9503 (Note: this is not a toll-free number).

AUTHORITY FOR MAINTENANCE OF THE SYSTEM:

38 U.S.C. 7301.

PURPOSE(S) OF THE SYSTEM:

The records and information will be used to provide access to the Federal Immersive Learning Management System (Fed ILMS) for both VA and non-VA users. The user information may be used to track training completion, assist in troubleshooting issues with access to Fed ILMS or any training courses, and solicit feedback on training provided.

CATEGORIES OF INDIVIDUALS COVERED BY THE SYSTEM:

Veterans, dependents, VA employees, other Federal employees, members of the public, and clinical trainees that are users of Fed ILMS.

CATEGORIES OF RECORDS IN THE SYSTEM:

These records include information such as full name, personal email address, business email address, User ID, Veterans Integrated System Network location, biometrics (voice and video recording), and user chat messaging.

RECORD SOURCE CATEGORIES:

Records and information in this system are provided by Veterans, dependents, VA employees, other Federal employees, members of the public, clinical trainees, and Talent Management System.

ROUTINE USES OF RECORDS MAINTAINED IN THE SYSTEM, INCLUDING CATEGORIES OF USERS AND PURPOSES OF SUCH USES:

1. Congress: To a Member of Congress or staff acting upon the Member's behalf when the Member or staff requests the information on behalf of, and at the request of, the individual who is the subject of the record.

2. Data Breach Response and Remediation, for VA: To appropriate agencies, entities, and persons when (a) VA suspects or has confirmed that there has been a breach of the system of records; (b) VA has determined that as a result of the suspected or confirmed breach there is a risk of harm to individuals, VA (including its information systems, programs, and operations), the Federal Government, or national security; and (c) the disclosure made to such agencies, entities, and persons is reasonably necessary to assist in connection with VA's efforts to respond to the suspected or confirmed breach or to prevent, minimize, or remedy such harm.

3. Data Breach Response and Remediation for Another Federal Agency: To another Federal agency or Federal entity, when VA determines that information from this system of records is reasonably necessary to assist the recipient agency or entity in (a) responding to a suspected or confirmed breach, or (b) preventing, minimizing, or remedying the risk of harm to individuals, the recipient agency, or entity (including its information systems, programs, and operations), the Federal Government, or national security, resulting from a suspected or confirmed breach.

4. Law Enforcement Authorities, for Reporting Violations of Law: To a Federal, state, local, territorial, tribal, or foreign law enforcement authority or other appropriate entity charged with the responsibility of investigating or prosecuting a violation or potential violation of law, whether civil, criminal, or regulatory, or charged with enforcing or implementing such law, provided that the disclosure is limited to information that, either alone or in conjunction with other information, indicates such a violation or potential violation. A disclosure of information about Veterans and their dependents from VA claims files under this routine use must also comply with the provisions of 38 U.S.C. 5701(f).

5. Department of Justice (DOJ), Litigation, Administrative Proceeding: To DOJ, or in a proceeding before a court, adjudicative body, or other administrative body before which VA is authorized to appear, when any of the following is a party to such proceedings or has an interest in such proceedings, and VA determines that use of such records is relevant and necessary to the proceedings: (a) VA or any component thereof; (b) any VA employee in his or her official capacity; (c) any VA employee in his or her official capacity where DOJ has agreed to represent the employee; or (d) the United States, where VA determines that litigation is likely to affect the agency or any of its components.

6. National Archives and Records Administration (NARA): To NARA in records management inspections conducted under 44 U.S.C. 2904 and § 2906, or other functions authorized by laws and policies governing NARA operations and VA records management responsibilities.

7. Equal Employment Opportunity Commission (EEOC): To EEOC in connection with investigations of alleged or possible discriminatory practices, the examination of Federal affirmative employment programs, or other functions of the Commission as authorized by law.

8. Federal Labor Relations Authority (FLRA): To FLRA in connection with the investigation and resolution of allegations of unfair labor practices, the resolution of exceptions to arbitration awards when a question of material fact is raised, matters before the Federal Service Impasses Panel, and the investigation of representation petitions and the conduct or supervision of representation elections.

9. Merit Systems Protection Board (MSPB): To MSPB in connection with appeals, special studies of the civil service and other merit systems, review of rules and regulations, investigation of alleged or possible prohibited personnel practices, and such other functions promulgated in 5 U.S.C. 1205 and § 1206, or as authorized by law.

10. Contractors: To contractors, grantees, experts, consultants, students, and others performing or working on a contract, service, grant, cooperative agreement, or other assignment for VA, when reasonably necessary to accomplish an agency function related to the records.

11. Other Federal Agencies: To other Federal agencies for the purpose of tracking training completion by their employees in the Federal Immersive Learning Management System.

12. Academic Universities: To academic universities for the purpose of tracking training completion in Fed ILMS for their students.

POLICIES AND PRACTICES FOR STORAGE OF RECORDS:

These records are maintained in electronic storage media in VA Information Technology systems.

POLICIES AND PRACTICES FOR RETRIEVAL OF RECORDS:

Records are retrieved by name or email address.

POLICIES AND PRACTICES FOR RETENTION AND DISPOSAL OF RECORDS:

Records in this system are retained and disposed of in accordance with the schedule approved by the Archivist of the United States, Records Control Schedule (RCS) 10-1, item 1100.40B. Dependents and members of the public records will be unscheduled and maintained indefinitely.

ADMINISTRATIVE, TECHNICAL, AND PHYSICAL SAFEGUARDS:

The system is hosted in Microsoft infrastructure as a service cloud computing environment that has been authorized at the moderate-impact level under the Federal Risk and Authorization Management Program. The secure site-to-site encrypted network connection is limited to access via the VA trusted internet connection. VHA will maintain the data in compliance with applicable VA security policy directives that specify the standards that will be applied to protect sensitive personal information. Access to VA working space is restricted to VA employees on a “need to know” basis.

RECORD ACCESS PROCEDURE:

Individuals seeking information on the existence and content of records in this system pertaining to them should contact the system manager in writing as indicated above. A request for access to records must contain the requester's full name, address and telephone number, be signed by the requester and describe the records sought in sufficient detail to enable VA personnel to locate them with a reasonable amount of effort.

CONTESTING RECORD PROCEDURES:

Individuals seeking to contest or amend records in this system pertaining to them should contact the system manager in writing as indicated above. A request to contest or amend records must state clearly and concisely what record is being contested, the reasons for contesting it, and the proposed amendment to the record.

NOTIFICATION PROCEDURE:

Individuals who wish to be notified if a record in this system of records pertains to them should submit the request following the procedures described in “Record Access Procedures,” above.

EXEMPTIONS PROMULGATED FOR THE SYSTEM:

None.

HISTORY:

None.

[FR Doc. 2025-15591 Filed 8-14-25; 8:45 am]

BILLING CODE 8320-01-P